DEPARTMENT OF COMMERCE

National Oceanic and Atmospheric Administration

RIN 0648-XP81

Endangered and Threatened Species; Take of Anadromous Fish

AGENCY: NOAA's National Marine Fisheries Service (NMFS), National Oceanic and Atmospheric Administration (NOAA), U. S. Department of Commerce.

ACTION: Notice of receipt of a permit application; request for comments.

SUMMARY: Notice is hereby given that NMFS has received an application for a permit to conduct research for scientific purposes from Thomas R. Payne and Associates (TRPA) in Arcata, California. The requested permit would affect the endangered Southern California Coast Distinct Population Segment of steelhead (Oncorhynchus mykiss). The public is hereby notified of the availability of the permit application for review and comment before NMFS either approves or disapproves the application.

DATES: Written comments on the permit application must be received at the appropriate address or fax number July 17, 2009.

ADDRESSES: Written comments on the permit application should be sent to Matt McGoogan, Protected Resources Division, NMFS, 501 W. Ocean Blvd., Suite 4200, Long Beach, CA 90802. Comments may also be sent using email (FRNpermits.lb@noaa.gov) or fax (562-980-4027). The permit application is available for review, by appointment, at the foregoing address and is also available for review online at the Authorizations and Permits for Protected Species website at https://apps.nmfs.noaa.gov.

FOR FURTHER INFORMATION CONTACT: Matt McGoogan at phone number (562-980-4026) or e-mail: matthew.mcgoogan@noaa.gov

SUPPLEMENTARY INFORMATION:

Authority

Issuance of permits, as required by the Endangered Species Act of 1973 (16 U.S.C. 1531B1543) (ESA), is based on a finding that such permits: (1) are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NMFS.

Permit Application Received

TRPA has applied for a scientific research permit to conduct a study with endangered Southern California (SC) Distinct Population Segment (DPS) steelhead (Oncorhynchus mykiss) in the Ventura River. The purpose of this study is to use monitoring and sampling methods to gather information that will contribute to the understanding of abundance and distribution of juvenile steelhead in various portions of the Ventura River watershed. Information obtained by this study is anticipated to help support restoration efforts for the SC DPS. For this study, snorkel surveys will be used to the greatest extent possible for assessing steelhead abundance within stream habitats. Electrofishing will also be used as a sampling method to calibrate fish counts obtained from snorkel surveys and provide estimates of steelhead abundance in selected run and riffle habitat types. Electrofishing will be conducted only by qualified individuals and according to NMFS' electrofishing guidelines. The proposal specifies a 5-year study starting in 2009 and ending in 2014. Field activities for this study would occur between March 1st and September 30th during each year of the study. TRPA has requested an annual non-lethal take of up to 600 juvenile steelhead. The unintentional lethal take that may occur as a result of project activities is up to 30 juvenile steelhead. See the permit application for a complete project description including tables and figures.

Dated: June 12, 2009.
Angela Somma,
Chief, Endangered Species Division, Office of Protected Resources, National Marine Fisheries Service.

[FR Doc. E9-14264 Filed 6-16-09; 8:45 am]

BILLING CODE 3510-22-S